DEPARTMENT OF COMMERCE

International Trade Administration

[A-570-190, C-570-191]

Notice of Extension of the Deadline for Determining the Adequacy of the Antidumping and Countervailing Duty Petitions: Sol Gel Alumina-Based Ceramic Abrasive Grains From the People's Republic of China

AGENCY: Enforcement and Compliance, International Trade Administration, Department of Commerce.

DATES: Applicable December 6, 2024.

FOR FURTHER INFORMATION CONTACT: Thomas Cloyd or Suresh Maniam, AD/CVD Operations, Enforcement and Compliance, International Trade Administration, U.S. Department of Commerce, 1401 Constitution Avenue NW, Washington, DC 20230; telephone: (202) 482-1246 or (202) 482-1603, respectively.

SUPPLEMENTARY INFORMATION:

Extension of Initiation of Investigation

The Petitions

On November 25, 2024, the U.S. Department of Commerce (Commerce) received antidumping and countervailing duty petitions on imports of sol gel alumina-based ceramic abrasive grains (ceramic abrasive grains) from the People's Republic of China (China), filed in proper form on behalf of Saint-Gobain Ceramics & Plastics, Inc. (the petitioner), a domestic producer of ceramic abrasive grains.¹

¹ See Petitioner's Letter, “Petitions for the Imposition of Antidumping and Countervailing Duties,” dated November 25, 2024 (Petitions).

Determination of Industry Support for the Petitions

Sections 702(b)(1) and 732(b)(1) of the Tariff Act of 1930, as amended (the Act), require that a petition be filed by or on behalf of the domestic industry. To determine that the petition has been filed by or on behalf of the industry, sections 702(c)(4)(A) and 732(c)(4)(A) of the Act require that the domestic producers or workers who support the petition account for: (i) at least 25 percent of the total production of the domestic like product; and (ii) more than 50 percent of the production of the domestic like product produced by that portion of the industry expressing support for, or opposition to, the petition. Moreover, sections 702(c)(4)(D) and 732(c)(4)(D) of the Act provide that, if the petition does not establish support of domestic producers or workers accounting for more than 50 percent of the total production of the domestic like product, Commerce shall: (i) poll the industry or rely on other information in order to determine if there is support for the petition, as required by subparagraph (A); or (ii) if there is a large number of producers, determine industry support using a statistically valid sampling method to poll the industry.

Extension of Time

Sections 702(c)(1)(A) and 732(c)(1)(A) of the Act provide that within 20 days of the filing of an antidumping or countervailing duty petition, Commerce will determine, inter alia, whether the petition has been filed by or on behalf of the U.S. industry producing the domestic like product. Sections 702(c)(1)(B) and 732(c)(1)(B) of the Act provide that the deadline for the initiation determination, in exceptional circumstances, may be extended by 20 days in any case in which Commerce must “poll or otherwise determine support for the petition by the industry.” Because the Petitions have not established that the domestic producers or workers accounting for more than 50 percent of total production support the Petitions, in accordance with sections 702(c)(4)(D) and 732(c)(4)(D) of the Act, Commerce has determined it would be appropriate in these cases to poll the industry and extend the time period for determining whether to initiate the investigations in order to further examine the issue of industry support.

Commerce will need additional time to gather and analyze additional information regarding industry support. Therefore, it is necessary to extend the deadline for determining the adequacy of the Petitions for a period not to exceed 40 days from the filing of the Petitions. As a result, in accordance with sections 702(c)(1)(B) and 732(c)(1)(B) of the Act, Commerce's initiation determination will now be due no later than January 6, 2025.²

² The extended deadline for Commerce's initiation determination falls on January 4, 2025, which is a Saturday. Accordingly, Commerce's initiation determination will be due no later than January 6, 2025, which is the next business day after 40 days from the filing of the Petitions.

International Trade Commission Notification

Commerce will contact the U.S. International Trade Commission (ITC) and will make this extension notice available to the ITC.

Dated: December 6, 2024.
Scot Fullerton,
Acting Deputy Assistant Secretary for Antidumping and Countervailing Duty Operations.

[FR Doc. 2024-29221 Filed 12-11-24; 8:45 am]

BILLING CODE 3510-DS-P